DEPARTMENT OF HOMELAND SECURITY

Federal Emergency Management Agency

44 CFR Part 67

[Docket ID FEMA-2010-0003; Internal Agency Docket No. FEMA-B-1138]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 27, 2010.

ADDRESSES: The corresponding preliminary Flood Insurance Rate Map (FIRM) for the proposed BFEs for each community is available for inspection at the community's map repository. The respective addresses are listed in the table below.

You may submit comments, identified by Docket No. FEMA-B-1138, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Clinton County, Indiana, and Incorporated Areas
Prairie Creek | Approximately 100 feet downstream of County Road 100 North | None | +822 | City of Frankfort, Unincorporated Areas of Clinton County.
| Approximately 450 feet upstream of Kelly Street | None | +853 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Frankfort
Maps are available for inspection at City Hall, 301 East Clinton Street, Frankfort, IN 46041.
Unincorporated Areas of Clinton County
Maps are available for inspection at the Clinton County Courthouse, 180 Courthouse Square, Frankfort, IN 46041.
Cerro Gordo County, Iowa, and Incorporated Areas
Chelsea Creek | At the confluence with Willow Creek | +1116 | +1118 | City of Mason City.
| Just downstream of Chicago, Milwaukee, St. Paul and Pacific Railroad | +1131 | +1134 |
Clear Creek | At the confluence with Willow Creek | None | +1180 | City of Clear Lake.
| Just downstream of 40th Street | +1195 | +1192 |
Clear Lake | Entire shoreline | None | +1228 | City of Clear Lake, City of Ventura, Unincorporated Areas of Cerro Gordo County.
Willow Creek | Just upstream of State Road 122 | +1157 | +1158 | City of Clear Lake, City of Mason City, Unincorporated Areas of Cerro Gordo County.
| Approximately 850 feet upstream of I-35 | None | +1195 |
Winnebago River | Approximately 0.4 mile upstream of Chicago, Milwaukee, St. Paul and Pacific Railroad | None | +1061 | City of Mason City, Unincorporated Areas of Cerro Gordo County.
| Approximately 1.6 mile upstream of 13th Street | +1093 | +1092 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Clear Lake
Maps are available for inspection at 15 North 6th Street, Clear Lake, IA 50428.
City of Mason City
Maps are available for inspection at 10 1st Street Northwest, Mason City, IA 50401.
City of Ventura
Maps are available for inspection at 101 Sena Street, Ventura, IA 50482.
Unincorporated Areas of Cerro Gordo County
Maps are available for inspection at 220 North Washington Avenue, Mason City, IA 50401.
Lafayette Parish, Louisiana, and Incorporated Areas
Anselm Coulee | Just upstream of the confluence with the Vermillion River | None | +14 | Unincorporated Areas of Lafayette Parish.
| Just downstream of the confluence with Isaac Verot Coulee | None | +24 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Lafayette Parish
Maps are available for inspection at 101 East Cypress Street, Lafayette, LA 70501.
Steele County, Minnesota, and Incorporated Areas
Crane Creek | Approximately 400 feet upstream of the confluence with the Straight River | +1091 | +1092 | Unincorporated Areas of Steele County.
| At Frontage Road | +1091 | +1092 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Steele County
Maps are available for inspection at the Steele County Administration Center, 630 Florence Avenue, Owatonna, MN 55060.
Clarion County, Pennsylvania (All Jurisdictions)
Allegheny River | Approximately 1.16 mile upstream of the confluence with Redbank Creek | None | +837 | Township of Brady.
| Approximately 2.12 miles upstream of the confluence with Redbank Creek | None | +838 |
Allegheny River | Approximately 1.38 mile downstream of the confluence with Black Fox Run | None | +853 | Township of Perry, Township of Toby.
| Approximately 480 feet upstream of State Route 368 | None | +868 |
Allegheny River | Approximately 1,660 feet downstream of State Route 58 | None | +873 | Township of Richland.
| Approximately 1,245 feet downstream of State Route 58 | None | +873 |
| Approximately 860 feet downstream of I-80 | None | +880 |
| Approximately 920 feet upstream of I-80 | None | +880 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Brady
Maps are available for inspection at the Brady Township Building, 141 West Liberty Road, Slipery Rock, PA 16057.
Township of Perry
Maps are available for inspection at the Perry Township Building, 5687 Doc Walker Road, Parker, PA 16049.
Township of Richland
Maps are available for inspection at the Richland Township Building, 511 Dittman Road, Emlenton, PA 16373.
Township of Toby
Maps are available for inspection at the Toby Township Building, 37 Simmons Road, Rimersburg, PA 16248.

(Catalog of Federal Domestic Assistance No. 97.022, “Flood Insurance.”)

Dated: September 13, 2010.
Sandra K. Knight,
Deputy Federal Insurance and Mitigation Administrator, Mitigation, Department of Homeland Security, Federal Emergency Management Agency.

[FR Doc. 2010-24148 Filed 9-24-10; 8:45 am]

BILLING CODE 9110-12-P